NUCLEAR REGULATORY COMMISSION

[NRC-2014-0001]

Sunshine Act Meeting Notice

DATES: Weeks of February 3, 10, 17, 24, March 3, 10, 2014.

PLACE: Commissioners' Conference Room, 11555 Rockville Pike, Rockville, Maryland.

STATUS: Public and Closed.

Week of February 3, 2014

There are no meetings scheduled for the week of February 3, 2014.

Week of February 10, 2014—Tentative

There are no meetings scheduled for the week of February 10, 2014.

Week of February 17, 2014—Tentative

Wednesday, February 19, 2014

9:30 a.m. Briefing on NRC International Activities (Closed—Ex. 1 & 9)

1:30 p.m. Briefing on Security Issues (Closed—Ex. 3)

Thursday, February 20, 2014

9:30 a.m. Briefing on Threat Environment Assessment (Closed—Ex. 1)

Week of February 24, 2014—Tentative

There are no meetings scheduled for the week of February 24, 2014.

Week of March 3, 2014—Tentative

Monday, March 3, 2014

1:30 p.m. Briefing on Human Reliability Program Activities and Analyses (Public Meeting)

(Contact: Sean Peters, 301-251-7582)

This meeting will be webcast live at the Web address— http://www.nrc.gov/.

Tuesday, March 4, 2014

9:00 a.m. Briefing on Security Issues (Closed—Ex. 1)

1:30 p.m. Briefing on Security Issues (Closed—Ex. 1)

Friday, March 7, 2014

10:00 a.m. Meeting with the Advisory Committee on Reactor Safeguards (ACRS) (Public Meeting) (Contact: Ed Hackett, 301-415-7360)

This meeting will be webcast live at the Web address— http://www.nrc.gov/.

Week of March 10, 2014—Tentative

There are no meetings scheduled for the week of March 10, 2014.

* * * * *

The schedule for Commission meetings is subject to change on short notice. To verify the status of meetings, call (recording)—301-415-1292. Contact person for more information: Rochelle Bavol, 301-415-1651.

* * * * *

Additional Information

By a vote of 4-0 on January 24, 2014, the Commission determined pursuant to U.S.C. 552b(e) and '9.107(a) of the Commission's rules that the Affirmation Session on USDOE HLW Repository, State of Nevada Petition for Clarification of 11/18/13 Restart Order and Related Staff Requirements Memorandum (11/27/13); “Five Parties” Motion for Reconsideration of Memorandum and Order (11/27/13) be held with less than one week notice to the public. The meeting was held on January 24, 2014.

* * * * *

The NRC Commission Meeting Schedule can be found on the Internet at:

http://www.nrc.gov/public-involve/public-meetings/schedule.html.

* * * * *

The NRC provides reasonable accommodation to individuals with disabilities where appropriate. If you need a reasonable accommodation to participate in these public meetings, or need this meeting notice or the transcript or other information from the public meetings in another format (e.g. braille, large print), please notify Kimberly Meyer, NRC Disability Program Manager, at 301-287-0727, or by email at Kimberly.Meyer-Chambers@nrc.gov. Determinations on requests for reasonable accommodation will be made on a case-by-case basis.

* * * * *

Members of the public may request to receive this information electronically. If you would like to be added to the distribution, please contact the Office of the Secretary, Washington, DC 20555 (301-415-1969), or send an email to Darlene.Wright@nrc.gov.

Dated: January 30, 2014.
Rochelle C. Bavol,
Policy Coordinator, Office of the Secretary,

[FR Doc. 2014-02437 Filed 1-31-14; 4:15 pm]

BILLING CODE 7590-01-P